NEIGHBORHOOD REINVESTMENT CORPORATION

Sunshine Act Meetings

TIME AND DATE: 2:00 p.m., Thursday, April 20, 2023.

PLACE: 1255 Union Street NE, Fifth Floor, Washington, DC 20002.

STATUS: Parts of this meeting will be open to the public. The rest of the meeting will be closed to the public.

MATTERS TO BE CONSIDERED: Regular Board of Directors meeting.

The General Counsel of the Corporation has certified that in his opinion, one or more of the exemptions set forth in the Government in the Sunshine Act, 5 U.S.C. 552b(c)(2) and (4) permit closure of the following portion(s) of this meeting:

• Executive Session

Agenda

I. CALL TO ORDER

II. Approval of Government in Sunshine Act Notice Waiver for a Meeting of the Board of Directors

III. FY2022 External Audit Discussion with BDO Auditors

IV. Sunshine Act Approval of Executive (Closed) Session

V. Executive Session with BDO Auditors

VI. Special Topic

VII. Executive Session: Report from CEO

VIII. Executive Session: Report from CFO

IX. Executive Session: General Counsel Report

X. Executive Session: NeighborWorks Compass Update

XI. Action Item Approval of Meeting Minutes

XII. Action Item Appointment of Adrianne Todman to Audit Committee

XIII. Action Item CIGNA Special Delegation

XIV. Action Item NW Compass: Strategy and Contracting Authority

XV. Discussion Item March 16 Audit Committee Report

XVI. Discussion Item Report from CIO

XVII. Discussion Item IT Tech Support Contract—Request to Increase Contract Amount

XVIII. Capital Corporation Update and Grant Request for June

XIX. Discussion Item Investment Policy Review

XX. Discussion Item Expanded Spending Authority for Large Events

XXI. Management Program Background and Updates

XXII. Adjournment

PORTIONS OPEN TO THE PUBLIC: Everything except the Executive Session.

PORTIONS CLOSED TO THE PUBLIC: Executive Session.

CONTACT PERSON FOR MORE INFORMATION: Lakeyia Thompson, Special Assistant, (202) 524-9940; Lthompson@nw.org.

Lakeyia Thompson,
Special Assistant.

[FR Doc. 2023-08681 Filed 4-20-23; 11:15 am]

BILLING CODE 7570-02-P